DEPARTMENT OF TRANSPORTATION

National Highway Traffic Safety Administration

49 CFR Part 575

[NHTSA-2015-0096]

RIN 2127-AL33

Vehicle Defect Reporting Requirements

AGENCY: National Highway Traffic Safety Administration (NHTSA), Department of Transportation (DOT).

ACTION: Notice of proposed rulemaking (NPRM).

SUMMARY: NHTSA is proposing to require placing a label on the passenger side sun visor of light-duty vehicles that provides information about how to submit a safety-related motor vehicle defect complaint to NHTSA. This rulemaking also proposes updating the required information in 49 CFR 575.6 for defect reporting information in owner's manuals through the addition of the text developed for this proposal. This proposal responds to the mandate in the Moving Ahead for Progress in the 21st Century Act of 2012 (MAP-21) that manufacturers be required to affix, in the glove compartment or in another readily accessible location on the vehicle, a sticker, decal, or other device that provides, in simple and understandable language, information about how to submit a safety-related motor vehicle defect complaint to NHTSA; and prominently print the information described above within the owner's manual.

DATES: Comments must be received on or before January 27, 2017. See the SUPPLEMENTARY INFORMATION section on “Public Participation” for more information about written comments.

ADDRESSES: You may submit your comments, identified by Docket ID No. NHTSA-2015-0096, by any of the following methods:

• http://www.regulations.gov: Follow the online instructions for submitting comments.

• Fax: NHTSA: (202) 493-2251.

• Mail:

○ Docket Management Facility, M-30, U.S. Department of Transportation, 1200 New Jersey Avenue SE., West Building, Ground Floor, Rm. W12-140, Washington, DC 20590, Attention Docket ID No. NHTSA-2015-0096.

• Hand Delivery:

○ Department of Transportation, 1200 New Jersey Avenue SE., West Building, Ground Floor, Rm. W12-140, Washington, DC 20590, Attention Docket ID No. NHTSA-2015-0096 between 9 a.m. and 5 p.m. Eastern Time, Monday through Friday, except federal holidays.

Instructions: Regardless of how you submit comments, you should mention Docket ID No. NHTSA-2015-0096 or the Regulatory Identification Number (RIN) for this rulemaking. You may call the Docket Management Facility at 202-366-9826. For detailed instructions on submitting comments and additional information on the rulemaking process, see the Public Participation heading of the SUPPLEMENTARY INFORMATION section of this document. Note that all comments received will be posted, except as noted below, without change to http://www.regulations.gov, including any personal information provided.

Docket: All documents in the dockets are listed in the http://www.regulations.gov index. Although listed in the index, some information is not publicly available, e.g., confidential business information (CBI) or other information whose disclosure is restricted by statute. Publicly available docket materials are available either electronically in http://www.regulations.gov or in hard copy at the Docket Management Facility, M-30, U.S. Department of Transportation, 1200 New Jersey Avenue SE., West Building, Ground Floor, Rm. W12-140, Washington, DC 20590. The Docket Management Facility is open between 9 a.m. and 5 p.m. Eastern Time, Monday through Friday, except federal holidays.

Privacy Act: Anyone is able to search the electronic form of all comments received in any of our dockets by the name of the individual submitting the comment (or signing the comment, if submitted on behalf of an association, business, labor union, etc.). You may review DOT's complete Privacy Act Statement in the Federal Register published on April 11, 2000 (65 FR 19477-78) or you may visit http://www.dot.gov/privacy.html.

FOR FURTHER INFORMATION CONTACT: For technical issues: Hisham Mohamed, National Highway Traffic Safety Administration, 1200 New Jersey Avenue SE., Washington, DC 20590. Telephone: (202) 366-0307.

For legal issues: Ryan Hagen, National Highway Traffic Safety Administration, 1200 New Jersey Avenue SE., Washington, DC 20590. Telephone: (202) 366-2992.

SUPPLEMENTARY INFORMATION:

Table of Contents

I. Executive Summary

II. Statutory Mandate

III. Background

IV. Alternatives Considered and Proposed for the Label

V. Alternatives Considered and Proposed for the Owner's Manual Information

VI. Costs

VII. Benefits

VIII. Enforcement and Compliance

IX. Proposed Compliance Date

X. Public Participation

XI. Regulatory Notices and Analyses

XII. Proposed Regulatory Text

I. Executive Summary

This rulemaking proposes to require placing a sticker, decal, or other device that provides, in simple and understandable language, information about how to submit a safety-related motor vehicle defect complaint to NHTSA on the passenger side sun visor. The agency believes that the sun visor is not only the most accessible of the locations considered, but also it is the most prominent location, which would allow for the most informational benefit to consumers. This rulemaking also proposes updating the defect reporting information manufactures are required to include in owner's manuals. This rulemaking proposes to move the requirement to a different section of the CFR.

The benefits of the proposed rule, although not quantifiable, are anticipated to include: (1) improved messaging and information to consumers on how to submit a safety-related motor vehicle defect complaint to NHTSA; (2) increased consumer involvement in the motor vehicle defect reporting process; (3) reduced time between consumer awareness of a possible motor vehicle defect and industry response; (4) cost savings to the consumer through improved and timely defect-related response by the manufacturer; (5) reduction in the risk and incidence of injuries and fatalities attendant with the possible safety-related motor vehicle defect; (6) decreased motor vehicle property damage; (7) improvement in agency data-collection on potential safety problems in motor vehicles and motor vehicle equipment, and resultant decisions on whether to open an investigation; and, (8) cost savings to the industry by providing motor vehicle manufacturers with information that they may not yet have identified and gathered. While NHTSA believes that the benefits of this proposed rule would outweigh the costs, NHTSA notes that this rulemaking is required by statute and the agency is not required to determine that it is cost-beneficial.

II. Statutory Mandate

The Moving Ahead for Progress in the 21st Century Act of 2012 (MAP-21) ¹ requires that NHTSA develop a rule to provide consumers with information, in simple and understandable language, on how to submit a safety-related motor vehicle defect complaint to NHTSA. This information is to be placed on a sticker, decal or other device affixed to each new vehicle and printed within the owner's manual.

¹ Public Law 112-141.

Section 31306 of MAP-21 amended section 32302(d) of Chapter 323, Title 49, of the United States Code (U.S.C.). Chapter 323 codifies consumer information requirements initially established by the Motor Vehicle Information and Cost Savings Act of 1972 (Pub. L. 92-513). Section 31306 of MAP-21 requires that NHTSA develop a rulemaking to require passenger motor vehicle manufacturers (1) to affix, in the glove compartment or in another readily accessible location on the vehicle, a sticker, decal, or other device that provides, in simple and understandable language, information about how to submit a safety-related motor vehicle defect complaint to NHTSA; and (2) to prominently print the information described above by placing the text in Bold letters within the owner's manual. Section 31306 specifies that the above information must not be placed on the label required under section 3 of the Automobile Information Disclosure Act (15 U.S.C. 1232).

The agency has interpreted Section 31306 as directing DOT (by delegation, NHTSA) to determine a readily accessible location in a passenger motor vehicle for the required information to be affixed (considering the glove compartment as one option), and to ensure that the information is conveyed in simple and understandable language via a sticker, decal, or other device. NHTSA believes that the determinations of whether to require (1) a particular location for the sticker, decal, or other device, (2) specified language to be used by all manufacturers, or (3) a particular location for the information in the owner's manual, are left to the agency's discretion. We have interpreted the terms “sticker, decal, or other device,” to be various forms of the term “label.” Thus, we use the term “label” throughout this proposal to refer to the various ways a manufacturer could place the required information on the vehicle. We believe this could be fulfilled either through an adhesive method, such as a label generally refers to, or through a printing method, where text would be directly applied to a surface.

This rulemaking satisfies this mandate by proposing to require manufacturers to place a label on the passenger side sun visor that provides concise information on how to submit a safety-related defect complaint to NHTSA. This rulemaking also proposes to require manufacturers to print the same information in the owner's manual.

III. Background

Motor vehicle safety is defined as “the performance of a motor vehicle or motor vehicle equipment in a way that protects the public against unreasonable risk of accidents occurring because of the design, construction, or performance of a motor vehicle, and against unreasonable risk of death or injury in an accident, and includes non-operational safety of a motor vehicle.” ² A defect includes “any defect in performance, construction, a component, or material of a motor vehicle or motor vehicle equipment.” ³ Generally, a safety defect is defined as a problem that exists in a motor vehicle or item of motor vehicle equipment that poses an unreasonable risk to motor vehicle safety, and may exist in a group of vehicles of the same design or manufacture, or items of equipment of the same type and manufacture.

² 49 U.S.C. 30101(a)(8).

³ 49 U.S.C. 30101(a)(2).

The National Traffic and Motor Vehicle Safety Act of 1966 ⁴ (the Vehicle Safety Act) granted NHTSA the authority to investigate defects and to determine whether a defect exists. If a safety defect is discovered, the manufacturer must notify NHTSA, as well as vehicle or equipment owners, dealers, and distributors. If NHTSA determines that a defect creates an unreasonable safety risk, the agency may require a manufacturer to notify consumers, remedy a defect or issue a recall.5 6 The manufacturer is then required to remedy the problem at no charge to the owner. NHTSA monitors the manufacturer's corrective action to ensure successful completion of the recall campaign. Since the passage of the Vehicle Safety Act,⁷ 605 million cars, trucks, buses, recreational vehicles, motorcycles, and mopeds, as well as nearly 59 million tires, 91 million items of motor vehicle equipment, and 60 million child safety seats have been recalled to correct safety defects.⁸

⁴ Codified at 15 U.S.C. 1381 et seq. and recodified in 1994 as Chapter 30, Title 49, of the United States Code.

⁵ A manufacturer of a motor vehicle or motor vehicle equipment is required by 49 U.S.C. 30118(c) to notify the Secretary by certified mail, and the owners, purchasers, and dealers of the vehicle or equipment as provided in section 30119(d) of this section, if the manufacturer—

(1) learns the vehicle or equipment contains a defect and decides in good faith that the defect is related to motor vehicle safety; or

(2) decides in good faith that the vehicle or equipment does not comply with an applicable motor vehicle safety standard prescribed under this chapter.

Section 30119(d) provides notification procedures. Section 30120(a) of 49 U.S.C. provides that when notification is required under section 30118(c), the remedy shall be without charge when the vehicle or equipment is presented for remedy. NHTSA regulations at 49 CFR part 573 “Defects and noncompliance responsibility and reports,” and Part 577 “Defects and noncompliance notification” implement these statutory requirements.

Pursuant to 49 U.S.C. 30165, a manufacturer who violates any of the above-mentioned statutory or regulatory provisions is liable to the Government for a civil penalty. Until 1997 the maximum civil penalty was $1,000 per violation up to a maximum of $800,000 for a related series of violations. By a separate statutorily mandated regulation, since 1997 NHTSA has adjusted the § 30165 civil penalties upward for inflation. 49 CFR part 578. The Transportation Recall Enhancement, Accountability, and Documentation (TREAD) Act, (Pub. L. 106-414), enacted in 2000 in light of the Firestone/Ford controversy, amended the Safety Act by, inter alia, raising those maximum civil penalties to $5,000 per violation and $15,000,000 for a related series of violations, and added criminal penalties (49 U.S.C. 30170) for violations of reporting requirements. MAP-21, enacted in 2012, increased the maximum civil penalty for a related series of violations to $35,000,000. The Fixing America's Surface Transportation Act (FAST Act), Public Law 114-94 (Dec. 4, 2015), increased maximum civil penalties to $21,000 per violation and $105,000,000 for a related series of violations. The increases in maximum civil penalties in the FAST Act become effective on the date on which the Secretary of Transportation certifies that NHTSA has completed a rulemaking to provide an interpretation of the penalty factors in 49 U.S.C. 30165. The higher civil penalty maximums in the Part 578, MAP-21, and the FAST Act amendments are not retroactive to violations that occurred before their enactments.

⁶ Under the 1974 amendments to the Motor Vehicle Safety Act, Congress gave NHTSA broad new power to enforce recall decisions. These included new reporting requirements, increased penalties for noncompliance, and subpoena and plant inspection authority.

⁷ During the period 1966 to 2014.

⁸ 2014 Recall Annual Report—NHTSA. See report at http://www.safercar.gov/staticfiles/safercar/pdf/2014-annual-recalls-report.pdf (last accessed September 18, 2015). This data includes recalls that take place because the vehicles and equipment do not meet the requirements of applicable safety standards set by NHTSA. Manufacturers voluntarily initiate most recalls.

To obtain information about potential safety defects in vehicles and equipment, NHTSA's Office of Defects Investigation (ODI) receives data from a variety of sources including vehicle and equipment manufacturers, dealers, and consumer advocacy groups and forums. However, ODI relies heavily on information received from consumers who experience issues with their vehicles and equipment. ODI receives, on average, between 40,000 and 50,000 complaints from consumers each year.

If a consumer thinks that his/her vehicle or equipment may have a safety-related defect, reporting it to NHTSA is an important first step to take to get the situation remedied and help make the nation's roads safer. If the agency receives similar reports from a number of consumers about the same product, this could indicate that a safety-related defect exists that could warrant the opening of an investigation. However, an analysis of one complaint may also lead to an investigation depending on the type of defect that is reported. In order to make it convenient for consumers to report any suspected safety-related defects to NHTSA, the agency offers three ways to file such complaints.

Vehicle Safety Hotline

NHTSA operates the United States Department of Transportation's Vehicle Safety Hotline telephone service to collect accurate and timely information from consumers on vehicle safety problems. Consumers can call 1-888-327-4236 or 1-800-424-9393 toll-free from anywhere in the United States, Puerto Rico, and the Virgin Islands to register complaints or receive recall information about a vehicle. The Hotline also has Spanish-speaking representatives and offers a dedicated number, 1-800-424-9153, for use by persons with hearing impairments.

When a consumer calls the Hotline to report a vehicle-related safety issue, the consumer is asked to provide certain critical information that NHTSA technical staff needs to evaluate the problem.⁹ The information that the consumer provides is filed on a Vehicle Owner's Questionnaire (VOQ) form, entered into the agency's consumer-complaint database, and forwarded to NHTSA technical staff for evaluation. VOQs filed through the Hotline are mailed to consumers for verification of data. In addition, consumers receive an explanation of how their questionnaire will be used. NHTSA may provide information from the questionnaire to the vehicle manufacturer.

⁹ The Privacy Act of 1974—Public Law 93-579, As Amended: This information is requested pursuant to the authority vested in the National Highway Traffic Safety Act and subsequent amendments. Consumers are under no obligation to respond to this questionnaire. Consumer response may be used to assist NHTSA in determining whether a manufacturer should take appropriate action to correct a safety defect. If NHTSA proceeds with administration enforcement or litigation against a manufacturer, consumer response, or statistical summary thereof, may be used in support of the agency's action.

Safercar.gov

Consumers can also report a vehicle safety issue to NHTSA online at its vehicle safety Web site: www.safercar.gov. The consumer can select “Report Safety Problems” within the Vehicle Owners section of the home page. The information that a consumer submits via the Web site is recorded in VOQ format, entered into NHTSA's consumer complaint database, and provided to NHTSA technical staff for evaluation. NHTSA may provide information from the questionnaire to the vehicle manufacturer.

U.S. Mail

A consumer can also report a defect by sending a letter to the agency via U.S. mail.

SaferCar Mobile Application

In March 2013, NHTSA launched its SaferCar mobile application that allows consumers to access important vehicle safety information from their mobile devices.¹⁰ To report a safety complaint to NHTSA through the SaferCar mobile application, a consumer who has a smart phone or a tablet can download the SaferCar application for free, scan in their vehicle identification number, and follow instructions to submit their complaint. The information collected through this mobile application is similar to that which is collected online at SaferCar.gov.

¹⁰ The current SaferCar mobile application is available for the iOS and Android mobile operating systems.

Manufacturers are currently required to include the following text in all passenger vehicle owner's manuals: ¹¹

¹¹ 49 CFR 575.6.

If you believe that your vehicle has a defect which could cause a crash or could cause injury or death, you should immediately inform the National Highway Traffic Safety Administration (NHTSA) in addition to notifying [INSERT NAME OF MANUFACTURER].

If NHTSA receives similar complaints, it may open an investigation, and if it finds that a safety defect exists in a group of vehicles, it may order a recall and remedy campaign. However, NHTSA cannot become involved in individual problems between you, your dealer, or [INSERT NAME OF MANUFACTURER].

To contact NHTSA, you may call the Vehicle Safety Hotline toll-free at 1-888-327-4236 (TTY: 1-800-424-9153); go to http://www.safercar.gov; or write to: Administrator, NHTSA, 400 Seventh Street, SW., Washington, DC 20590. You can also obtain other information about motor vehicle safety from http://www.safercar.gov.

NHTSA notes that this required text uses an outdated mailing address. The correct mailing address is: U.S. Department of Transportation, National Highway Traffic Safety Administration, Office of Defects Investigation (NEF-100), 1200 New Jersey Avenue SE., Washington, DC 20590.

The currently required text also does not advise vehicle users of the ability to file a complaint on the safercar.org Web site, or through the new safercar.gov mobile application.

IV. Alternatives Considered and Proposed for the Label

NHTSA first considered whether to require a particular location for the label containing defect reporting language, or whether to leave the location up to the manufacturer's discretion. Section 31306 does not specify whether the determination of location is to be made by the agency or the manufacturer. NHTSA acknowledges that differing vehicles designs may mean that the most accessible location for a label in a particular vehicle also differs. We also considered that there may be benefits to providing flexibility to manufacturers by allowing them to make the location determination. The agency believes that increased compliance flexibility often has the potential to lower costs while preserving manufacturer ability to design to consumer preferences. In this case, however, the benefits to increased manufacturer flexibility are believed to be minimal. The base estimated costs of implementing this proposal are believed to be low, and the agency does not believe that additional flexibility would be able to provide any significant further cost savings. In addition, the purpose of requiring such a label is to ensure that consumers encounter the information; to the extent that a manufacturer seeks to “blend” the label into preexisting vehicle designs, we believe this may detract from the purpose of the requirement.

On the other hand, we believe a standardized location for defect reporting information would best further the purpose of Section 31306 by increasing the accessibility of the information through repeat consumer exposure and expectations. We anticipate that once the consumer has encountered the information in a particular vehicle location, he or she would be more likely to associate the information with the location and be able to access it again at a point when it is sought (such as after a safety incident has occurred or a defect suspected). Therefore, we are proposing to require a particular location for placement of the language by all manufacturers.

NHTSA identified five locations on a vehicle where the placement of a label is likely to be practicable and the information displayed likely to be accessible to a consumer. The five options thus considered in this proposal are: (1) the passenger's sun visor; (2) the glove compartment; (3) the edge of the driver's door; (4) the driver's side B-pillar, and (5) the headliner above the sun visor. Section 31306 of MAP-21 (“. . . affix, in the glove compartment or in another readily accessible location on the vehicle . . .”) appears to suggest that the glove compartment may be the best location for the label, however, the selection of the location is left to the agency's discretion.

Merriam-Webster dictionary defines “accessible” as “capable of being reached, easy to communicate, capable of being influenced, capable of being used or seen, or capable of being understood or appreciated.” ¹² NHTSA notes that while Section 31306 does not mandate that the required location be determined to be the most accessible of all the options, Congress appears to have given the accessibility of the information the highest priority of potential factors. The agency notes that in the context of placing displays of information, the prominence of the placement directly influences the degree to which the information can be seen, and thus the degree to which the language can communicate and be understood. Prominence is thus an important element of accessibility when considering where to put a label. Therefore, NHTSA first focused its analysis on which prominent locations inside the vehicle could display information that would then be highly accessible to (i.e., reachable by) vehicle users.

¹² Merriam-Webster Online— http://www.merriam-webster.com/dictionary/accessible (last accessed January 23, 2013).

First, NHTSA considered the glove compartment for prominence and accessibility, as this location was specifically suggested by Congress. We believe this location may have been suggested because of the common practice of storing documents such as the vehicle owner's manual, registration, and insurance information, which a driver is likely to reference in the event of an accident or problem with the vehicle. In addition, glove compartments face the vehicle occupants and are generally within a few feet of eye level, which may make information displayed within one more prominent than it would be in locations that are behind or to side of occupants, or further from eye level.

However, the agency believes that the variety in current designs of glove compartments may impact the degree of accessibility and prominence of information displayed within them. For example, we are aware of some designs that open on a simple hinge, similar to an envelope drop box, and others that open on a hinge that drops the compartment down below the dashboard. After consideration of the surface areas available for placement of a label within different glove compartment designs, we are concerned the variation in designs may make placement of a label inside the glove compartment more visible on some vehicles than others. Not all glove compartments appear to offer a prominent surface area on which to place a label with detailed reporting information. Additionally, we believe that consistency in visibility of the label across model types may make it more accessible and prominent to consumers through their past associations with labels in other vehicles.

Next, NHTSA considered the passenger's side sun visor. This location was considered accessible and prominent, as it is situated in front of vehicle occupants not far from eye level. The suitability of this location for labels has previously been leveraged by the agency for both air bag labels and vehicle rollover labels.

The air bag label, established under FMVSS 208 (Occupant Crash Protection), requires manufacturers to affix an air bag warning label to the sun visor at each seating position that is equipped with an inflatable restraint.¹³ 49 CFR part 575.105 (Vehicle Rollover) also requires that a rollover warning label be affixed at the driver's sun visor for utility vehicles.¹⁴ The rollover warning label may appear on either side of the visor, but if it appears on the same side as the air bag label, it must be separated from the air bag label by a certain distance. The air bag label may be affixed to either side of the sun visor. FMVSS 208 also specifies that no other information may appear on the same side of the sun visor to which the air bag warning label is affixed, except for the utility vehicle warning label, and no other information about the air bags or the need to wear seat belts may appear anywhere on sun visors.¹⁵

¹³ § 571.208, Standard No. 208; Occupant crash protection.

S4.5.1(b) Sun visor air bag warning label. (1) Except as provided in S4.5.1(b)(2), each vehicle shall have a label permanently affixed to either side of the sun visor, at the manufacturer's option, at each front outboard seating position that is equipped with an inflatable restraint.

¹⁴ § 575.105 Vehicle rollover.

c) Definitions. Utility vehicles means multipurpose passenger vehicles (other than those which are passenger car derivatives) which have a wheelbase of 110 inches or less and special features for occasional off-road operation.

¹⁵ § 571.208.

S4.5.1(b)(5) Limitations on additional labels. (i) Except for the information on an air bag maintenance label placed on the sun visor pursuant to S4.5.1(a) of this standard, or on a utility vehicle warning label placed on the sun visor that conforms in content, form, and sequence to the label shown in Figure 1 of 49 CFR 575.105, no other information shall appear on the same side of the sun visor to which the sun visor air bag warning label is affixed.

(ii) Except for the information in an air bag alert label placed on the sun visor pursuant to S4.5.1(c) of this standard, or on a utility vehicle warning label placed on the sun visor that conforms in content, form, and sequence to the label shown in Figure 1 of 49 CFR 575.105, no other information about air bags or the need to wear seat belts shall appear anywhere on the sun visor.

NHTSA considered that the label for information on how to contact NHTSA with a vehicle safety defect complaint could be affixed on the passenger's sun visor on the opposite side from the air bag warning label, which would allow for sufficient separation of the two labels. As each label would contain concise information, we believe that such separation from the pictogram of the air bag label would be sufficient to ensure that both labels display information prominently. We note that a similar setup exists on the driver side sun visor of utility vehicles, which bears either the air bag label on one side and the rollover warning label on the other side of the visor, or both labels on the same side. The agency is not aware of any negative impacts from the placement of two labels on one visor on those vehicles.

NHTSA next considered the driver's side b-pillar or edge of the driver's door. In its tire safety information final rule,¹⁶ the agency agreed with manufacturers that there is a concern about the sufficiency of the space for the placement of the vehicle placard and tire inflation label in the door edge or B-pillar for some vehicles. As a result, in that rule, NHTSA added other alternative requirements to the requirement that the vehicle placard and tire inflation pressure label be located on the driver's side B-pillar.¹⁷ The agency remains concerned that the relatively limited space in these locations, combined with design variations, may detract from the prominence of a label with detailed reporting information. We also believe that the current vehicle placard and tire inflation pressure label are relatively technically specific, and by adding another label may crowd the messaging on how to reach NHTSA with a potential vehicle safety complaint.

¹⁶ 67 FR 69600, at 69617-69618.

¹⁷ Id. at 69617.

Finally, NHTSA considered the headliner above the sun visor. Like the sun visor, the headliner is a relatively accessible and prominent location, being in front of the vehicle occupants and not far from eye level. A label on either the headliner or the “back” side of the visor would only be visible when the visor was in the “open” (not stowed) position. As the headliner currently does not contain labels, a potential benefit to using this space for the defect label would be to avoid any confusion or crowding of information.¹⁸ The ability to require the label on the driver's side headliner, as opposed to the passenger's side sun visor may carry additional accessibility benefits by bringing the information closer to the driver, who is more likely to need or use the information.

¹⁸ Related, the headliner may provide for more consistency in label placement if manufacturers frequently vary whether to place the air bag label on the front or back side of the label. However, NHTSA believes that the variation in air bag label placement is likely due to manufacturer desire to limit the label visibility to when the visor is in the open position, and requiring a label on each side of the visor would make that concern irrelevant.

However, a label on the back side of the visor would appear closer to eye level when the visor was in the open position. NHTSA is also concerned that the potential use of the driver's side headliner may introduce a crowding issue in utility vehicles, which would now have three informational labels in the same area on the driver's side (this could defeat any spacing benefit assumed for avoiding the use of the sun visor). In addition, the use of the visor for existing label requirements may make it more likely that a vehicle occupant would associate the visor with vehicle safety-related reference information and thus check it in the event of a safety problem. For these reasons, the agency believes a label on the headliner may be less prominent than one on the visor itself.

For the above reasons, of the five locations considered, the agency's preferred alternative for placement of the sticker, decal, or other device is the passenger side sun visor. The agency also recognizes that the headliner above the sun visor may have similar benefits to the visor without some of the disadvantages of the visor. Therefore, the headliner is currently considered a close second to the preferred alternative.

NHTSA invites comments on whether the passenger side sun visor is indeed the best easily accessible location for a label, as well as whether the agency should have considered additional locations within the vehicle. Commenters should provide detail on which location is best and why. If additional locations are suggested, commenters are requested to provide information on the accessibility, prominence, and practicability of the suggested location. NHTSA also invites comments on whether its assumptions and assessment of the preferred location are reasonable. Commenters are requested to provide supporting information for their suggestions.

Specified Language

NHTSA also considered whether to require specified language to be printed on the label, or whether to leave the choice of language up to the vehicle manufacturer. Section 31306 of MAP-21 does not specify whether the choice of actual content is to be made by the agency or by the manufacturer. Given that information on how to submit a safety-related defect complaint is relatively straightforward, and does not vary by vehicle type or design, we do not see a benefit to leaving the choice of language up to the manufacturer. Conversely, we believe that requiring standardized language could prevent confusion or inaccuracies that customized language could produce. Further, standardized language may have the benefit of creating a phrase association for vehicle users that could help them remember which agency to contact with a safety-related concern whether or not they remember where the contact information is located within their vehicle. For these reasons, NHTSA is proposing standardized language for the decal, label, or other device.

Next, NHTSA considered proposed content for the labels. Information on how to reach NHTSA with potential vehicle safety defect complaints is currently written in all passenger vehicle owner's manuals. Manufacturers are currently required to include the following text in all passenger vehicle owner's manuals: ¹⁹

¹⁹ 49 CFR 575.6.

If you believe that your vehicle has a defect which could cause a crash or could cause injury or death, you should immediately inform the National Highway Traffic Safety Administration (NHTSA) in addition to notifying [INSERT NAME OF MANUFACTURER].

If NHTSA receives similar complaints, it may open an investigation, and if it finds that a safety defect exists in a group of vehicles, it may order a recall and remedy campaign. However, NHTSA cannot become involved in individual problems between you, your dealer, or [INSERT NAME OF MANUFACTURER].

To contact NHTSA, you may call the Vehicle Safety Hotline toll-free at 1-888-327-4236 (TTY: 1-800-424-9153); go to http://www.safercar.gov; or write to: Administrator, NHTSA, 400 Seventh Street SW., Washington, DC 20590. You can also obtain other information about motor vehicle safety from http://www.safercar.gov.

Section 31306 of MAP-21 states that the label information must be “in simple and understandable language.” Given the currently required language, NHTSA interprets one purpose of the new requirement as relaying the same basic information to vehicle users in a more straightforward and condensed manner appropriate for a sticker or label. With that in mind, NHTSA developed the following proposed language for the consumer information label:

Do you believe your vehicle has a safety-related problem?

The National Highway Traffic Safety Administration (NHTSA) NEEDS to know.

File your complaint with NHTSA today! Filing a complaint is easy:

Online: http://www.safercar.gov

Toll-free Hotline: 1-888-327-4236 (TTY: 1-800-424-9153)

Mail: U.S. Department of Transportation, NHTSA, Office of Defects Investigation, NEF-100, 1200 New Jersey Avenue SE., Washington, DC 20077-9382.

Information about how to keep your vehicle safe can be found at www.SaferCar.gov.

NHTSA believes the above proposed language would be easily readable and comprehensible, and that by sticking to brief, standardized content, the proposed device would effectively inform consumers of how to file a potential vehicle safety defect. The agency believes that longer strings of information in this context are unnecessary, and may detract from a vehicle user's ability to internalize the information presented. The simple listing format above is intended to make it less likely that a vehicle user would miss the key message of the label or device.

NHTSA requests comment on the language, including whether it provides the necessary information on how to contact NHTSA with vehicle safety-related complaints, and whether it is simple and understandable. Should the commenter have additional or revised language to propose, the agency requests detail as to what additional or revised language is recommended and how it is likely to fulfill the statutory purpose better than the proposed text.

Label Design

NHTSA believes the intent of Section 31306 of MAP-21 was to provide consumers with easily accessible and understandable information on how to contact the agency with any vehicle safety-related defects and complaints. NHTSA does not believe that the requirements under this rule are intended to increase a manufacturer burden beyond communicating the basic information on how to contact the agency with a vehicle safety-related defect complaint.

With that in mind, NHTSA is proposing the following simple design requirements for the label, which are similar to the design requirements of the air bag warning label and the rollover warning label: ²⁰

²⁰ See 49 CFR part 571.208; 49 CFR part 575.105, Vehicle Rollover.

• The title must be in a bold black text.

• The message area must be white with black text.

• The pictograms must be black with a white background.

• The label must be appropriately sized so that it is legible, visible and prominent to the driver.

NHTSA believes that these requirements communicate the information as intended in the statute in an accessible, readable, and comprehensive manner. NHTSA believes that a simple black and white label would effectively communicate the necessary information, and that requiring color on labels could create an unnecessary financial burden to some manufacturers. In regard to the font for the label, NHTSA is not proposing either a particular font face, font size, or case for the label. In existing label requirements (e.g., tire, rollover, and air bag), the agency has not encountered issues with leaving the font specifications up to manufacturers. However, NHTSA is proposing to specify that the text on the label be “legible, visible, and prominent” to the driver.²¹ NHTSA is also not proposing to specify a size, shape, or dimension for the label, in order to provide manufacturers the flexibility to design the placard and label in a manner that can be configured to each vehicle design. This flexibility is similar to that provided in other label requirements.²² A sample of the proposed label is as follows:

²¹ See 67 FR 69617.

²² Id.

NHTSA seeks comments on the proposed design of the label, including the current recommendation to keep the label in black and white without additional colors. If a comment requests that the labels have color, either on the background and/or in the content including text, the commenter should provide a detailed explanation as to the benefit such changes would provide to the consumer. NHTSA also seeks comment on the proposed content, as to whether the information is adequate to inform consumers on what actions to take should they feel they have a safety-related problem with their vehicle, and whether there is any undue burden that vehicle manufacturers may face under this proposal that the agency should consider.

V. Alternatives Considered and Proposal for the Owner's Manual Information

NHTSA considered whether to develop unique language for owner's manuals on how to submit a defect complaint, whether to use the same language in the manual as is required for the label, or whether to simply update the currently required owner's manual information with NHTSA's new address and SaferCar mobile application.

NHTSA believes that the clearest way to read Section 31306(d)(1)(B) of MAP-21 (“prominently print the information described in [the label requirement] within the owner's manual”) is that Congress intended for the same essential information displayed in the label to be available in the owner's manual, but not necessarily that the label be exactly reproduced in the owner's manual. If Congress had intended for the label to be printed in both places, we believe it would have indicated so more directly by combining the two requirements, rather than refer to the required information more broadly as that “described in” the label requirement. Further, we believe that the greater space offered in owner's manuals allows for additional explanatory statements that may be useful to a consumer seeking more information on the defects reporting process.

For the above reasons, NHTSA is proposing the following language for the owner's manual requirement:

If you believe that your vehicle has a defect which could cause a crash or could cause injury or death, you should immediately inform the National Highway Traffic Safety Administration (NHTSA) in addition to notifying [INSERT NAME OF MANUFACTURER].

If NHTSA receives similar complaints, it may open an investigation, and if it finds that a safety defect exists in a group of vehicles, it may order a recall and remedy campaign. However, NHTSA cannot become involved in individual problems between you, your dealer, or [INSERT NAME OF MANUFACTURER].

To contact NHTSA, you may call the Vehicle Safety Hotline toll-free at 1-888-327-4236 (TTY: 1-800-424-9153); go to http://www.safercar.gov; download the SaferCar mobile application; or write to: Administrator, NHTSA, 1200 New Jersey Ave. SE., Washington, DC 20590. You can also obtain other information about motor vehicle safety from http://www.safercar.gov.

NHTSA is not proposing design requirements for the owner's manual information, beyond that it must be printed in a font size no smaller than 10 point type. NHTSA is also not proposing to require the owner's manual information to be printed in a particular section of the manual. We recognize that there may be some increased consumer exposure benefit to requiring the information to be printed in a standard design, and/or on a particular page of the manual. However, in the event of a safety-related issue with their vehicle, we believe it is common for a vehicle user to consult the table of contents within the manual for direction on their particular issue, and thus would be informed of where to find the information on how to submit a defect complaint. We also believe that manufacturers would be capable of fulfilling the statutory requirement to print the information prominently without the potential burden of redesigning their manual layouts to incorporate a standardized placement.

NHTSA is also proposing to move the required language currently located in 49 CFR part 575.6 to 49 CFR 575.501 in order keep these like requirements in the same place. This section will provide manufacturers with the required safety-related defect reporting information in the owner's manual. As noted above, the current requirement does not include the most up-to-date reporting information, including the Safercar mobile application, and we believe that Congress developed the new owner's manual requirement with the intent that it would subsume the existing regulation.

NHTSA requests comment on the proposal to use an updated version of the currently required owner's manual information, including whether this would fulfill the statutory requirement. NHTSA also requests comment on whether to require specific design requirements and whether to require the owner's manual information in a particular section of the manual, and whether our assessment of the limited benefits of such additional requirements is accurate. Commenters are requested to provide detailed explanations for any recommendations.

VI. Costs

In determining estimated industry costs associated with this proposal, the agency investigated potential “ball-park” production cost and labor cost for labels and owner's manual information.

For purposes of the label cost estimate, NHTSA estimates the one-time cost and recurring annual cost associated with producing a new, adhesive-type label that is separate from existing labels. NHTSA estimates that the one-time cost per manufacturer for development of the label is $22.67, assuming one hour of labor. The labor cost estimate is based on the Bureau of Labor Statistics Motor Vehicle Manufacturing average hourly wage of production workers.²³ See Table 1. The total one-time industry cost to 22 manufacturers of passenger cars and light trucks is estimated at $586.74.

²³ http://www.bls.gov/oes/current/oes519199.htm.

Table 1—Estimated One-Time Manufacturer Cost for Label
[2012 Dollars]
One-time startup costs | Estimated labor rate/hour | Estimated labor hours | Cost per manufacturer
Motor Vehicle Manufacturing Production Worker | $26.67 | 1 | $26.67

We estimate the annual costs for producing the label as follows. NHTSA assumes a per-label cost of $0.04 and a labor value of $0.09 per label. To arrive at a labor value of $0.09, we estimate the average assembly line worker salary ²⁴ ($21.14) divided by 60 minutes, divided by 60 seconds = $0.0059 per second. We estimate that affixing the label on the sun visor would take approximately 15 seconds, based on the amount of time we assumed the average worker would take to open the vehicle door, position the sun visor, and affix the label. This also assumes that, like the VIN numbers, the label would be affixed to the vehicle after it is assembled. We assume that 16.5 million passenger vehicles will be sold per year.²⁵ Based on the above, we estimate that the total annual industry cost for the label, including printing and labor, is $2.15 million. See Table 2.

²⁴ http://www.bls.gov/oes/current/oes512099.htm.

²⁵ See 78 FR 55138.

Table 2—Estimated Total Label Annual Industry Cost
[2012 Dollars]
Number of vehicles | Cost of label | Labor value per label | Cost w/out labor | $ Labor | Industry annual cost
16.5 million | $0.04 | $0.09 | $660,000 | $1,485,000 |
Total cost |  |  |  |  | $2,145,000

NHTSA developed the following cost estimates for the development and printing in simple and understandable language within the owner's manual, information about how to submit a safety-related motor vehicle defect complaint to the National Highway Traffic Safety Administration. See Table 3. The cost of printing the page the size of the required text is estimated at $0.04. Multiplying $0.04 by 16.5 million vehicles results in an estimated annual cost to vehicle manufacturers of $660,000 for printing the page in the owner's manual. The one-time cost to manufacturers for the information in the owner's manual is negligible.

Table 3—Estimated Owner's Manual Information Printing Cost
[2012 Dollars]
Annual costs | Rate | Pages | Cost
Printing—per page | $0.04 | 1 | $0.04
16.5 million number of vehicles |  |  | 660,000

The estimated total annual recurring cost to vehicle manufacturers is $2.8 million ($2.15 million label cost + $0.66 million owner's manual cost).

VII. Benefits

As information on the effects of making defect reporting information more accessible to vehicle users is not available, the benefits of this proposed rule are not quantifiable. However, NHTSA believes that there would be several qualitative benefits of this action. Some of the anticipated benefits would fall to vehicle users. These benefits could be direct (improved consumer awareness and involvement) or indirect (fewer vehicle safety incidents or accidents across particular model types on account of an expanded or quickened defect reporting and response process). Other anticipated benefits would fall to agency and the industry in the form of efficiencies gained by closing information gaps. The anticipated benefits of this proposal include:

(1) Improved messaging and information to consumers on how to submit a safety-related motor vehicle defect complaint to NHTSA;

(2) increased consumer involvement in the motor vehicle defect reporting process;

(3) reduced time between consumer awareness of a possible motor vehicle defect and industry response;

(4) cost savings to the consumer through improved and timely defect-related response by the manufacturer;

(5) reduction in the risk and incident of injuries and fatalities attendant with the possible safety-related motor vehicle defect;

(6) decrease in motor vehicle property damage;

(7) improvement in agency data-collection on potential safety problems in motor vehicles and motor vehicle equipment, and resultant decisions on whether to open an investigation; and,

(8) cost savings to the industry by providing motor vehicle manufacturers with information that they may not yet have identified and gathered.

The agency believes that the benefits of this proposal would be higher than the costs. NHTSA requests comment on the benefits described here, and on any additional benefits and/or ways to quantify benefits.

VIII. Compliance and Penalties

In adding the 32302(d) requirements under MAP-21, Congress did not amend the existing compliance and civil penalty provisions in 49 U.S.C. Chapter 323; therefore, NHTSA tentatively concludes that those provisions apply for regulations promulgated under 32302(d).

49 U.S.C. 32308(a) states, in relevant part, that a person commits a violation of Chapter 323 if that person fails to provide the Secretary of Transportation (by delegation, the Administrator of NHTSA) with information requested in carrying out Chapter 323, or fails to comply with the applicable regulations prescribed under Chapter 323. 32308(b) prescribes a civil penalty of not more than $1,000 for each violation of 32308(a).

IX. Proposed Compliance Date

The proposed compliance date for label and owner's manual requirements is the first model year that occurs more than one year following the publication date of a final rule implementing this proposal. The compliance date adheres to the provision in Section 31306(d)(2) of MAP-21, which states that the above requirements “shall apply to passenger motor vehicles manufactured in any model year beginning more than 1 year after the date on which a final rule is published.” NHTSA believes the lead time proposed for the label may be necessary; however, early compliance would be encouraged. With regard to owner's manual information, NHTSA believes this amount of lead time is more than necessary. First, the agency is proposing standardized language. Additionally, in most cases, owner's manual information is developed, reviewed, and approved in an entirely digital environment, which significantly reduces lead time. Moreover, the agency is aware that some manufacturers have moved, or are in the process of moving, to full digital delivery of owner's manual information, where owner's manual information is delivered via a digital video disc (DVD) or some other digital format.²⁶ In some of these cases, official vehicle manufacturer owner's manual information is available via the internet for reference; one manufacturer currently provides vehicle owners information via an electronic tablet device as the primary information source, with a more traditional paper version as a secondary method.²⁷

²⁶ “Chrysler Phases Out Paper Owner's Manual” http://wheels.blogs.nytimes.com/2009/09/23/chrysler-does-away-with-paper-owners-manual/ (last accessed June 17, 2015).

²⁷ “2012 Hyundai Equus Continues To Redefine Intelligent Luxury,” http://www.hyundainews.com/us/en-us/Media/PressRelease.aspx?mediaid=32732&title=2012-hyundai-equus-continues-to-redefine-intelligent-luxury (last accessed February 5, 2016).

NHTSA seeks comment on whether the proposed lead time is reasonable. If a commenter wishes the agency to provide additional lead time, NHTSA requests that the commenter provide specific explanations for why more lead time might be needed for which elements of the proposal. For example, if a commenter sought more lead time for the owner's manual requirements, NHTSA seeks any relevant details of the owner's manual publication process and associated timing, along with current and future media that would be used for the owner's manual information.

X. Public Participation

NHTSA requests comment on all aspects of this proposed rule. This section describes how you can participate in this process.

A. How do I prepare and submit comments?

1. Further instructions for submitting comments to the NHTSA docket are described below:

Your comments must be written and in English. To ensure that your comments are correctly filed in the docket, please include the Docket Number NHTSA-2015-0096 in your comments. Your comments must not be more than 15 pages long.²⁸ NHTSA established this limit to encourage you to write your primary comments in a concise fashion. However, you may attach necessary additional documents, which are not subject to the page limit, to your comments.

²⁸ 49 CFR 553.21.

If you are submitting comments electronically as a PDF (Adobe) file, we ask that the documents submitted be scanned using the Optical Character Recognition (OCR) process, thus allowing the agency to search and copy certain portions of your submissions.²⁹ Please note that pursuant to the Data Quality Act, in order for the substantive data to be relied upon and used by the agencies, it must meet the information quality standards set forth in the OMB and DOT Data Quality Act guidelines.

²⁹ Optical character recognition (OCR) is the process of converting an image of text, such as a scanned paper document or electronic fax file, into computer-editable text.

Accordingly, we encourage you to consult the guidelines in preparing your comments. OMB's guidelines may be accessed at http://www.whitehouse.gov/omb/fedreg_reproducible (last accessed January 2, 2014), and DOT's guidelines may be accessed at http://regs.dot.gov (last accessed January 2, 2014).

2. Tips for Preparing Your Comments

When submitting comments, please remember to:

• Identify the rulemaking by docket numbers and other identifying information (subject heading, Federal Register date and page number).

• Follow directions—the agencies may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

Make sure to submit your comments by the comment period deadline identified in the DATES section above.

XI. Regulatory Notices and Analyses

A. Executive Orders 12866 and 13563

NHTSA has considered the impact of this rulemaking action under Executive Orders 12866 and 13563 and the Department of Transportation's regulatory policies and procedures. This action is not significant and therefore was not subject to review by OMB under Executive Order 12866. The benefits and costs of this proposal are described above. Because the proposed rule would, if adopted, would not be economically significant, the agency has not prepared a separate Preliminary Regulatory Evaluation.

B. Regulatory Flexibility Act

We estimate these proposed requirements would cost each small vehicle manufacturer approximately $0.13 per vehicle, or far less than 1% of the cost of one of these vehicles, and would therefore not appear to constitute a significant economic impact. Thus, NHTSA certifies that this rule, if adopted, would not have a significant impact on a substantial number of small entities.

C. Executive Order 13132

NHTSA does not believe that there would be sufficient federalism implications to warrant the preparation of a federalism assessment.

D. Executive Order 12988 (Civil Justice Reform)

Pursuant to Executive Order 12988, “Civil Justice Reform,” ³⁰ NHTSA has considered whether this rulemaking would have any retroactive effect. This proposed rule does not have any retroactive effect.

³⁰ 61 FR 4729 (Feb. 7, 1996).

E. National Environmental Policy Act (NEPA)

For the purposes of the National Environmental Policy Act, NHTSA has determined that implementation of this rulemaking action would not have any significant impact on the quality of the human environment.

F. Paperwork Reduction Act

The proposed rule does not implicate any information collection requirements under the Paperwork Reduction Act of 1995 (44 U.S.C. 3501-3520).

G. Unfunded Mandates Reform Act of 1995

NHTSA has determined that the requirements of Title II of the Unfunded Mandates Reform Act of 1995 do not apply to this rulemaking.

H. National Technology Transfer Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. NHTSA has not identified any existing voluntary consensus standards that could be used for this proposal.

I. Plain Language

Executive Orders 12866 and 13563 require each agency to write all rules in plain language. Application of the principles of plain language includes consideration of the following questions:

• Have we organized the material to suit the public's needs?

• Are the requirements in the rule clearly stated?

• Does the rule contain technical language or jargon that is not clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

J. Privacy Act

Anyone is able to search the electronic form for all comments received into any of our dockets by the name of the individual submitting the comments (or signing the comment, if submitted on behalf of an association, business, labor union, etc.). For more information on DOT's implementation of the Privacy Act, please visit: http://www.dot.gov/privacy. You may review DOT's complete Privacy Act statement in the Federal Register published on April 11, 2000 (Volume 65, Number 70; Pages 19477-78).

List of Subjects in 49 CFR Part 575

Consumer protection, Motor vehicle safety, Reporting and recordkeeping requirements, Tires.

Proposed Regulatory Text

For the foregoing reasons, NHTSA proposes to amend 49 CFR part 575 as follows:

PART 575—CONSUMER INFORMATION

1. The authority citation for part 575 is revised to read as follows:

Authority: 49 U.S.C. 32302, 32304A, 30111, 30115, 30117, 30123, 30166, 30181, 30182, 30183, and 32908, Pub. L. 104-414, 114 Stat. 1800, Pub. L. 109-59, 119 Stat. 1144, Pub. L. 110-140, 121 Stat. 1492, Pub. L. 112-141, 126 Stat. 405, 15 U.S.C. 1232(g); delegation of authority at 49 CFR 1.95.

2. Amend § 575.6 by removing paragraph (a)(2) and redesignating paragraphs (a)(3) through (5) as paragraphs (a)(2) through (4).

3. Add Subpart F to read as follows:

Subpart F—Moving Ahead for Progress in the 21st Century Act; Consumer Information

Authority: 49 U.S.C. 30101 et. seq., Sec. 31306, Pub. L. 112-141, 126 Stat. 405, delegation of authority at 49 CFR 1.95.

§ 575.501 Safety defect reporting

(a) Purpose and scope. This section requires manufacturers of passenger motor vehicles to affix a label that describes the process for submitting a complaint about a safety-related motor vehicle defect to the National Highway Traffic Safety Administration. This section also requires manufacturers to include the same information in the owner's manual.

(b) Application. This section applies to passenger motor vehicles under 10,000 lbs GVWR.

(c) Required information— (1) Label. (i) Each passenger motor vehicle must have a label permanently affixed to the passenger's sun visor. The label must not appear on the same side of the sun visor to which the sun visor air bag warning label is affixed, as required by S4.5.1(b)(5) of 49 CFR 571.208. The label must conform in content, form, and sequence to the label shown in Figure 1 of this section, and must comply with the following requirements:

(A) The title must be in a bold black text.

(B) The message area must have a white background and black text.

(C) The pictograms must be black with a white background.

(D) The label must be appropriately sized so that it is legible, visible, and prominent to the driver.

(ii) When the safety defect reporting label required by paragraph (c)(1)(i) of this section and the air bag alert label required by S4.5.1(c) of 49 CFR 571.208 are affixed to the same side of the passenger's sun visor, the pictogram of the air bag alert label must be separated from the pictograms of the safety defect reporting label by text and:

(A) The labels must be located such that the shortest distance from any of the lettering or graphics on the safety defect reporting label to any of the lettering or graphics on the air bag alert label is not less than 3 cm, or

(B) If the safety defect reporting and air bag alert labels are each surrounded by a continuous solid-lined border, the shortest distance from the border of the safety defect reporting label to the border of the air bag alert label must be not less than 1 cm.

(iii) At the option of the manufacturer, the requirement in paragraph (c)(1)(i) of this section for a permanently affixed label may instead be met by permanent marking and molding of the required information onto the specified location.

(2) Owner's Manual. (i) The manufacturer of each passenger motor vehicle must provide to the purchaser, in writing in the English language and not less than 10 point type, the following statement in the owner's manual, or, if there is no owner's manual or the owner's manual is electronic, on a one-page document:

If you believe that your vehicle has a defect which could cause a crash or could cause injury or death, you should immediately inform the National Highway Traffic Safety Administration (NHTSA) in addition to notifying [INSERT NAME OF MANUFACTURER]. To contact NHTSA, you may call the Vehicle Safety Hotline toll-free at 1-888-327-4236 (TTY: 1-800-424-9153); go to http://www.safercar.gov; download the SaferCar mobile application; or write to: Administrator, NHTSA, 1200 New Jersey Ave. SE., Washington, DC 20590. You can also obtain other information about motor vehicle safety from http://www.safercar.gov.

If NHTSA receives similar complaints, it may open an investigation, and if it finds that a safety defect exists in a group of vehicles, it may order a recall and remedy campaign. However, NHTSA cannot become involved in individual problems between you, your dealer, or [INSERT NAME OF MANUFACTURER].

(ii) The manufacturer must specify in the table of contents of the owner's manual the location of the statement required in paragraph (c)(2)(i). The heading in the table of contents must state “Reporting Safety Defects.”

Issued in Washington, DC.
Raymond R. Posten,
Associate Administrator for Rulemaking.

[FR Doc. 2016-28125 Filed 11-25-16; 8:45 am]

BILLING CODE 4910-59-P